DEPARTMENT OF THE INTERIOR

Bureau of Indian Affairs

Submission of Information Collection to the Office of Management and Budget for Review Under the Paperwork Reduction Act

AGENCY: Bureau of Indian Affairs, Interior.

ACTION: Notice of request for renewal.

SUMMARY: In compliance with the Paperwork Reduction Act, this notice announces that the Bureau of Indian Affairs is submitting an information collection to the Office of Management and Budget (OMB) for renewal. The collection concerns the Data Elements for Student Enrollment in Bureau-funded Schools. We are requesting a renewal of clearance and requesting comments on this information collection.

DATES: Written comments must be submitted on or before March 20, 2006.

ADDRESSES: You may submit comments on the information collection to the Desk Officer for the Department of the Interior at the Office of Management and Budget, by facsimile to (202) 395-6566 or you may send an e-mail to OIRA_DOCKET@omb.eop.gov.

Please send copies of comments to the Office of Indian Education Programs, 1849 C Street NW., Mail Stop 3609-MIB, Washington, DC 20240.

FOR FURTHER INFORMATION CONTACT: Glenn Allison, (202) 208-3628.

SUPPLEMENTARY INFORMATION:

I. Abstract

The data elements for enrollment information collected is for attendance in elementary and secondary schools operated and funded by the Bureau of Indian Affairs and to address the criteria for attendance under 25 U.S.C. 2007(f). The Secretary of the Interior, through the Bureau of Indian Affairs, is required to provide educational services to federally recognized Indians and Alaskan Natives. Beginning with the Snyder Act and continuing with Public Laws 93-638, 95-561, 100-297, 103-382, and 107-110, Congress has enacted legislation to ensure Indians receive educational opportunities. This act allows for the tuition free attendance of eligible Indian Students as defined by 25 U.S.C 2007(f) and dependents of the Bureau of Indian Affairs, Indian Health Service or tribal government employees who live on or near the school site.

II. Request for Comments

A 60-day notice requesting comments was published on July 11, 2005 (70 FR 39787). There were no comments received regarding that notice. You are invited to comment on the following items to the Desk Officer at OMB at the citation in the ADDRESSES section:

(a) Whether the collection of information is necessary for the proper performance of the functions of the agency, including whether the information will have practical utility;

(b) The accuracy of the agency's estimate of the burden (including the hours and cost) of the proposed collection of information, including the validity of the methodology and assumption used;

(c) Ways to enhance the quality, utility, and clarity of the information to be collected; and

(d) Ways to minimize the burden of the collection of information on those who are to respond, including through the use of appropriate automated, electronic, mechanical, or other collection techniques or other forms of information technology.

We will not request nor sponsor a collection of information, and you need not respond to such a request, if there is no valid Office of Management and Budget Control Number.

III. Data

Title: Data Elements for Student Enrollment in Bureau-funded Schools.

OMB Control Number: 1076-0122.

Type of Review: Renewal.

Description: These eligibility application data are mandatory in determining a student's eligibility for educational services. This collection is at no cost to the public.

Total Number of Respondents: 48,000.

Total Number of Annual Responses: 48,000.

Total Annual Burden Hours: 15 minutes per response × 48,000 annual responses = 12,000 hours.

Dated: February 10, 2006.
Michael D. Olsen,
Acting Principal Deputy Assistant Secretary—Indian Affairs.

[FR Doc. E6-2305 Filed 2-16-06; 8:45 am]

BILLING CODE 4310-02-P